DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on proposed revisions to and the three-year extension of the Natural Gas Production Report, Form EIA-914.

DATES: Comments must be filed by February 13, 2007. If you anticipate difficulty in submitting comments within that period, contact the person listed below as soon as possible.

ADDRESSES: Send comments to Ms. Rhonda Green at U.S. Department of Energy, Energy Information Administration, Reserves and Production Division, 1999 Bryan Street, Suite 1110, Dallas, Texas 75201-6801. To ensure receipt of the comments by the due date, submission by FAX (214-720-6155) or e-mail (RHONDA.GREEN@EIA.DOE.GOV) is recommended. Alternatively, Ms. Green may be contacted by telephone at (214) 720-6161.

FOR FURTHER INFORMATION CONTACT: Requests for additional information or copies of any forms and instructions should be directed to Ms. Rhonda Green at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

Operators of natural gas wells are the target respondents of Form EIA-914. Currently there are 227 respondents, a sample drawn from a universe of about 8,300 known operators. Using information collected on Form EIA-914, EIA estimates and disseminates timely and reliable monthly natural gas production data at the United States level, and for Texas, and Louisiana (both including State offshore natural gas production), New Mexico, Oklahoma, Wyoming and the Federal Gulf of Mexico. This collection is essential to the mission of the DOE for the development, implementation, and evaluation of energy policy and legislation in general, and the EIA in particular because of the increasing demand for natural gas in the United States and the requirement for accurate and timely natural gas production information necessary to monitor the United States natural gas supply and demand balance. Data are disseminated through the EIA Natural Gas Monthly and Natural Gas Annual. Secondary publications that use the data include EIA's Short-Term Energy Outlook, Annual Energy Outlook, Monthly Energy Review and Annual Energy Review.

When OMB approved Form EIA-914 in 2004, it asked EIA to report the following information at the time of renewal of this data collection:

• Status of cooperation with the Interstate Oil and Gas Compact Commission (IOGCC) to increase quality of reported data, and status of cooperation between the individual States and the Minerals Management Service (MMS), with particular focus on reducing duplicative collections;

• Whether improvements to State collections allow some States to be dropped from the survey frame, with a specific analysis of the Texas collection; and

• Status of Form EIA-895, “Monthly and Annual Quantity and Value of Natural Gas Production Report.”

The responses to these requests are as follows:

Cooperative Efforts With the IOGCC and MMS

Since the implementation of Form EIA-914, EIA has met with members of the IOGCC and has discussed ways to increase the quality of reported natural gas production data. A written agreement was signed between IOGCC and EIA to improve the quality of State data. EIA works in consultation with the MMS to reduce duplicative data collections. MMS collects production data for revenue collection purposes. However, reliable MMS production data are typically unavailable for at least a year after the data are reported. Production estimates based on Form EIA-914 data are available 60 days after the close of a report month. The time frames of the two systems do not overlap.

Improvements to State Collections

There have been no significant improvements in State data collections of natural gas production that would allow for EIA to use State data in lieu of what it collects on the EIA-914 survey. With respect to Texas, the State has made some changes to its data collection system (e.g., one form instead of two, electronic data submission), but report timing and data quality are the same as when the EIA-914 was first approved.

Status of Form EIA-895

EIA continues to collect monthly natural gas production information from the States through Form EIA-895M, but will announce its decision to terminate the use of the monthly Form EIA-895M in 2007 and rely on the EIA-914 monthly natural gas production estimates thereafter. EIA plans to retain use of the annual Form EIA-895A for the following reasons:

1. Once a year, the EIA-895A collects monthly production data for 12 States that are not reported on Form EIA-914. In their comments on the March 7, 2005, Federal Register notice on extension of natural gas data collection forms, the Natural Gas Supply Association, the American Petroleum Institute, the Domestic Petroleum Council, the Independent Petroleum Association of America, the National Ocean Industries Association, and the U.S. Oil and Gas Association expressed concern about elimination of the EIA-895, because EIA would no longer publish monthly data for these 12 States. These monthly data allow industry participants to better understand State-level trends, plan business activity, and forecast future production. Based on conversations with trade group representatives in 2006, they remain opposed to elimination of this data collection.

2. With the elimination of the monthly EIA-895M, the EIA-895A becomes the major source of data on natural gas vented and flared and on nonhydrocarbon gases removed. A 2004 GAO report called on EIA to collect more data on venting and flaring, not to eliminate its collection.

3. The EIA-895A contains financial information not collected by the EIA-914 or the monthly Form-895M.

4. The EIA-895A serves as a quality check on production data collected by the EIA-914 during the year.

II. Current Actions

This notice is for a three-year extension of Form EIA-914, “Monthly Natural Gas Production Report,” and a revision to add Alaska, California, Colorado, Kansas, Montana, North Dakota, and the Federal Offshore Pacific. By adding these additional areas, the geographic coverage and accuracy of the gas production estimates will be improved. The sampling methodology will be the same as for current States.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated at 3 hours per respondent per month (this reflects no change from the original estimate). The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and included in the request for OMB approval of the form. They also will become a matter of public record.

Statutory Authority: Section 3507(h)(1) of the Paperwork Reduction Act of 1995 (Pub. L. 104-13, 44 U.S.C. Chapter 35).

Issued in Washington, DC, December 11, 2006.
Jay H. Casselberry,
Agency Clearance Officer, Energy Information Administration.

[FR Doc. E6-21367 Filed 12-14-06; 8:45 am]

BILLING CODE 6450-01-P